DEPARTMENT OF THE TREASURY

Internal Revenue Service

26 CFR Part 1

[TD 9191]

RIN 1545-BD16

Time and Manner of Making Section 163(d)(4)(B) Election To Treat Qualified Dividend Income as Investment Income; Correction

AGENCY: Internal Revenue Service (IRS), Treasury.

ACTION: Correction to final regulations and removal of temporary regulations.

SUMMARY: This document contains corrections to final regulations that were published in the Federal Register on March 18, 2005 (70 FR 13100) relating to an election that may be made by noncorporate taxpayers to treat qualified dividend income as investment income for purposes of calculating the deduction for investment interest.

DATES: This correction is effective March 18, 2005.

FOR FURTHER INFORMATION CONTACT: Amy Pfalzgraf (202) 622-4950 (not a toll-free number).

SUPPLEMENTARY INFORMATION:

Background

The final regulations that are the subject of this correction are under section 163(d) of the Internal Revenue Code.

Need for Correction

As published, the final regulations (TD 9191) contain an error which may prove to be misleading and is in need of clarification.

Correction of Publication

Accordingly, the publication of the final regulations (TD 9191), which were the subject of FR Doc. 05-5433, is corrected as follows:

On page 13101, column 1, second signature block, the title “Acting Assistant Secretary of the Treasury.” is corrected to read “Acting Deputy Assistant Secretary of the Treasury.”

Cynthia E. Grigsby,
Acting Chief, Publications and Regulations Branch, Legal Processing Division, Associate Chief Counsel (Procedure and Administration).

[FR Doc. 05-7097 Filed 4-8-05; 8:45 am]

BILLING CODE 4830-01-P